DEPARTMENT OF COMMERCE

Submission for OMB Review; Comment Request

The Department of Commerce will submit to the Office of Management and Budget (OMB) for clearance the following proposal for collection of information under the provisions of the Paperwork Reduction Act (44 U.S.C. Chapter 35).

Agency: National Telecommunications and Information Administration (NTIA).

Title: Computer and Internet Use Supplement to the Census Bureau's Current Population Survey (formerly Broadband Subscription and Usage Survey Supplement to the Census Bureau's Current Population Survey).

OMB Control Number: 0660-0021.

Form Number(s): None.

Type of Request: Regular submission (Reinstatement with change of a previously approved collection).

Estimated Number of Respondents: 54,000.

Estimated Time per Response: 3 minutes.

Estimated Total Annual Burden Hours: 2,700.

Needs and Uses: NTIA proposes to add 12 questions to the U.S. Census Bureau's October 2012 Current Population Survey (CPS) in order to gather reliable data on broadband (also known as high-speed Internet) use by U.S. households. President Obama has established a national goal of universal, affordable broadband access for all Americans (http://www.whitehouse.gov/sites/default/files/20091217-recovery-act-investments-broadband.pdf). To that end, the Administration is working with Congress, the Federal Communications Commission (FCC), and other stakeholders to develop and advance economic and regulatory policies that foster broadband deployment and adoption. Collecting current, systematic, and comprehensive information on broadband use and non-use by U.S. households is critical to allow policymakers not only to gauge progress made to date, but also to identify problem areas with a specificity that permits carefully targeted and cost-effective responses.

The Census Bureau (“the Bureau”) is widely regarded as a superior collector of data based on its centuries of experience and its scientific methods. Collection of NTIA's requested broadband usage data will occur in conjunction with the Bureau's scheduled October 2012 Current Population Survey (CPS), thereby significantly reducing the potential burden on surveyed households. Questions on broadband and Internet use have been included in ten previous CPS surveys.

The modification the October CPS to include NTIA's requested broadband data will allow the Commerce Department and NTIA to respond to congressional concerns and directives.

Affected Public: Individuals or households.

Frequency: Once.

Respondent's Obligation: Voluntary.

OMB Desk Officer: Nicholas Fraser, (202) 395-5887.

Copies of the above information collection proposal can be obtained by calling or writing Jennifer Jessup, Departmental Paperwork Clearance Officer, (202) 482-0336, Department of Commerce, Room 6612, 14th Street and Constitution Avenue NW., Washington, DC 20230 (or via the Internet at JJessup@doc.gov).

Written comments and recommendations for the proposed information collection should be sent within 30 days of publication of this notice to Nicholas Fraser, OMB Desk Officer, via the Internet at Nicholas_A._Fraser@omb.eop.gov, or by Fax at (202) 395-7285.

Dated: June 19, 2012.
Gwellnar Banks,
Management Analyst, Office of the Chief Information Officer.

[FR Doc. 2012-15382 Filed 6-22-12; 8:45 am]

BILLING CODE 3510-06-P